DEPARTMENT OF THE INTERIOR

Bureau of Land Management

[BLM_UT_FRN_MO4500171435]

Call for Nominations for the Bears Ears National Monument Advisory Committee, the San Rafael Swell Recreation Area Advisory Council, and the Utah Resource Advisory Council

AGENCY: Bureau of Land Management, Interior.

ACTION: Notice.

SUMMARY: The purpose of this notice is to request public nominations for the Bureau of Land Management's (BLM) Bears Ears National Monument Advisory Committee (MAC), the San Rafael Swell Recreation Area Advisory Council (SRS Council), and the Utah Resource Advisory Council (RAC) to fill existing vacancies and for member terms that are scheduled to expire.

DATES: All nominations must be received no later than June 21, 2023.

ADDRESSES: Nominations for the Bears Ears MAC should be sent to Rachel Wootton, BLM Canyon Country District Office, 82 Dogwood Ave., Moab, UT 84532, telephone: (435) 259-2187, Attention: Bears Ears National Monument Advisory Committee Nominations, or email rwootton@blm.gov with the subject line “Bears Ears National Monument Advisory Committee Nominations.” Nominations for the SRS Council should be sent to Angela Hawkins, BLM Green River District Office, 170 South 500 East, Vernal, UT 84078, telephone: (435) 781-2724, Attention: San Rafael Swell Advisory Council Nominations, or email ahawkins@blm.gov with the subject line “San Rafael Swell Advisory Council Nominations.” Nominations for the Utah RAC should be sent to Christina Judd, BLM Utah State Office, 440 West 200 South, Ste. 500, Salt Lake City, UT 84101, telephone: (801) 539-4020, Attention: Utah RAC Nominations, or email cjudd@blm.gov with the subject line “Utah RAC Nominations.”

Nominations will be accepted for 30 days from the date this notice is posted.

FOR FURTHER INFORMATION CONTACT: Please contact the individuals listed in the ADDRESSES section of this notice. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: All BLM advisory councils and committees are regulated by the Federal Advisory Committee Act, section 309 of the Federal Land Policy and Management Act as amended, and the regulations contained in 43 CFR 1784. Members are appointed to serve three-year terms and their duties and responsibilities are solely advisory in nature. All nominations must include a completed application (OMB Control No. 1004-0204, available at https://www.blm.gov/sites/blm.gov/files/1120-019_0.pdf), letters of reference from the represented interests or organizations, and any other information that speaks to the candidate's qualifications. The specific category the nominee would be representing should be identified in the letter of nomination and on the application form. Members serve without compensation. However, while away from their homes or regular places of business, members engaged in council business may be allowed travel expenses, including per diem in lieu of subsistence, as authorized by 5 U.S.C. 5703, in the same manner as persons employed intermittently in Federal Government service.

The councils will meet approximately two to four times annually, and at such other times as designated by the Designated Federal Officer.

The Bears Ears MAC was established pursuant to Presidential Proclamation 9558, “Establishment of the Bears Ears National Monument” (Monument) (December 28, 2016); Presidential Proclamation 10285, “Bears Ears National Monument” (October 8, 2021); the Forest and Rangeland Renewable Resources Planning Act of 1974 (16 U.S.C. 1600); Section 14 of the National Forest Management Act of 1976 (16 U.S.C. 472a); and the Wilderness Act (16 U.S.C. 1131). The fifteen-member citizen-based MAC provides advice and recommendations regarding the development of the management plan and, as appropriate, management of the Monument to the Secretary of the Interior, through the Director of the BLM, and to the Secretary of Agriculture, through the Chief of the U.S. Department of Agriculture Forest Service. The Bears Ears National Monument, co-managed by the BLM Monticello Field Office, the Manti La Sal National Forest, and the five Tribes of the Bears Ears Commission, holds special meaning to a wide variety of users. This area's rich cultural heritage is held sacred by many Native American Tribes, who continue to rely on the lands for traditional and ceremonial uses. The natural resources contained in the Monument are regularly used by local communities for firewood gathering and livestock grazing, and the area is used for numerous recreation activities, including hiking, backpacking, rock climbing, river rafting, and riding off highway vehicles.

The Bears Ears MAC is seeking nominations in the following categories:

(1) An elected official from local government within San Juan County representing the county;

(2) A representative with paleontological expertise;

(3) A representative of private landowners;

(4) A representative of local business owners; and

(5) A representative of the public at large.

The individual selected to serve with paleontological expertise will be appointed as a special Government Employees (SGE). Individuals selected from the other categories will be appointed as representative members. Please be aware that members selected to serve as SGEs will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact 202-208-7960 or DOI_Ethics@sol.doi.gov with any questions about the ethics requirements for members appointed as SGEs.

The SRS Council was established under title I, subpart A, section 1223 of the John D. Dingell, Jr. Conservation, Management, and Recreation Act of March 12, 2019, which directed the Secretary of the Interior to establish a seven-member citizen-based advisory council to provide advice and recommendations to the Secretary through the BLM with respect to the preparation and implementation of the management plan for the San Rafael Swell Recreation Area. Congress created the San Rafael Swell Recreation Area to provide for the protection, conservation, and enhancement of the recreational, cultural, natural, scenic, wildlife, ecological, historical, and educational resources of the area. The San Rafael Swell Recreation Area features magnificent badlands of brightly colored and wildly eroded sandstone formations, deep canyons, and giant plates of stone tilted upright through massive geologic upheaval, and features numerous recreational experiences including hiking, biking, four-wheel driving, horseback, canyoneering, and river running.

The SRS Council is seeking nominations in the following categories:

(1) A representative of grazing allotment permittees within the recreation area or wilderness areas designated;

(2) A representative with expertise in the historical uses of the recreation area; and

(3) A representative of conservation organizations.

Individuals selected from these categories will be appointed as representative members.

The Utah RAC was established as a statutory advisory committee and, pursuant to section 804(d)(l)(D) of the Federal Lands Recreation Enhancement Act (16 U.S.C. 6803(d)(l)(D)), the RAC is authorized to make recommendations on BLM and U.S. Department of Agriculture Forest Service recreation fee proposals. The 15-member citizen-based RAC provides advice and recommendations to the Secretary through the BLM concerning the issues relating to land use planning or the management of the public land resources located within the State of Utah. BLM manages nearly 22.8 million acres of public lands in Utah, representing about 42 percent of the State. These lands are varied, ranging from high alpine peaks, to rolling uplands and sprawling desert lowlands that feature some of the most spectacular scenery in the world, from the snow-capped peaks of remote mountain ranges to colorful red-rock canyons and deserts that offer opportunities to experience solitude and enjoy outdoor recreation. The BLM also provides opportunities for responsible mineral and energy development and grazing in Utah, which are important aspects of our multiple use mission.

The Utah RAC is seeking nominations in the following two membership categories:

(1) One nomination in Category Two—Representatives of nationally or regionally recognized environmental organizations; dispersed recreational activities; archaeological and historical interests; or nationally or regionally recognized wild horse and burro interest groups.

(2) Two nominations in Category Three—Hold State, county, or local elected office; are employed by a State agency responsible for the management of natural resources, land, or water; represent Indian Tribes within or adjacent to the area for which the RAC is organized; are employed as academicians in natural resource management or the natural sciences; or represent the affected public at large.

Individuals selected from these categories will be appointed as representative members. Simultaneous with this notice, the BLM will issue a press releases providing additional information for submitting nominations.

(Authority: 43 CFR 1784.4-1.)

Gregory Sheehan,
State Director.

[FR Doc. 2023-10848 Filed 5-19-23; 8:45 am]

BILLING CODE 4311-25-P